INTERNATIONAL TRADE COMMISSION

[Investigation Nos. 701-TA-648 and 731-TA-1521-1522 (Final)]

Walk-Behind Lawn Mowers From China and Vietnam

Determinations

On the basis of the record ¹ developed in the subject investigations, the United States International Trade Commission (“Commission”) determines, pursuant to the Tariff Act of 1930 (“the Act”), that an industry in the United States is materially injured by reason of imports of walk-behind lawn mowers from China found by the U.S. Department of Commerce (“Commerce”) to be sold in the United States at less than fair value (“LTFV”) and to be subsidized by the government of China, and threatened with material injury by reason of imports of walk-behind lawn mowers from Vietnam found by Commerce to be sold at LTFV, provided for in subheading 8433.11.00 of the Harmonized Tariff Schedule of the United States.

¹ The record is defined in § 207.2(f) of the Commission's Rules of Practice and Procedure (19 CFR 207.2(f)).

Background

The Commission instituted these investigations effective May 26, 2020, following receipt of petitions filed with the Commission and Commerce by MTD Products, Inc., Valley City, Ohio. The final phase of the investigations was scheduled by the Commission following notification of preliminary determinations by Commerce that imports of walk-behind lawn mowers from China were subsidized within the meaning of section 703(b) of the Act (19 U.S.C. 1671b(b)) and that imports of walk-behind lawn mowers from China and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 29, 2021 (86 FR 7565). In light of the restrictions on access to the Commission building due to the COVID-19 pandemic, the Commission conducted its hearing through video conference on May 18, 2021. All persons who requested the opportunity were permitted to participate.

The Commission made these determinations pursuant to §§ 705(b) and 735(b) of the Act (19 U.S.C. 1671d(b) and 19 U.S.C. 1673d(b)). It completed and filed its determinations in these investigations on July 6, 2021. The views of the Commission are contained in USITC Publication 5209 (July 2021), entitled Walk-Behind Lawn Mowers from China and Vietnam: Investigation Nos. 701-TA-648 and 731-TA-1521-1522 (Final).

By order of the Commission.
Issued: July 6, 2021.
Lisa Barton,
Secretary to the Commission.

[FR Doc. 2021-14649 Filed 7-8-21; 8:45 am]

BILLING CODE 7020-02-P